DEPARTMENT OF HEALTH AND HUMAN SERVICES

Centers for Disease Control and Prevention

[CDC-2013-0007; Docket Number NIOSH-233]

Issuance of Final Guidance Publication

AGENCY: National Institute for Occupational Safety and Health (NIOSH) of the Centers for Disease Control and Prevention (CDC), Department of Health and Human Services (HHS).

ACTION: Notice of issuance of final guidance publication.

SUMMARY: The National Institute for Occupational Safety and Health (NIOSH) of the Centers for Disease Control and Prevention (CDC) announces the publication of the following document entitled “NIOSH List of Antineoplastic and Other Hazardous Drugs in Healthcare Settings, 2014.”

ADDRESSES: This document is available at the following link: http://www.cdc.gov/niosh/docs/2014-138/pdfs/2014-138.pdf.

FOR FURTHER INFORMATION CONTACT: Barbara MacKenzie, NIOSH, 1090 Tusculum Avenue, MS-C26, Cincinnati, Ohio 45226, telephone (513) 533-8132, email hazardousdrugs@cdc.gov.

Dated: September 11, 2014.
John Howard,
Director, National Institute for Occupational Safety and Health, Centers for Disease Control and Prevention.

[FR Doc. 2014-22275 Filed 9-17-14; 8:45 am]

BILLING CODE 4163-19-P